DEPARTMENT OF COMMERCE

National Oceanic and Atmospheric Administration

[RTID 0648-XB315]

Pacific Fishery Management Council; Public Meeting

AGENCY: National Marine Fisheries Service (NMFS), National Oceanic and Atmospheric Administration (NOAA), Commerce.

ACTION: Notice of public meeting.

SUMMARY: The Pacific Fishery Management Council's (Pacific Council) ad hoc Marine Planning Committee will hold an online meeting. This meeting is open to the public.

DATES: The online meeting will be held Wednesday, September 1, 2021, 9 a.m. to 4 p.m., or until business for the day has been completed.

ADDRESSES: This meeting will be held online. Specific meeting information, including directions on how to join the meeting and system requirements will be provided in the meeting announcement on the Pacific Council's website (see www.pcouncil.org). You may send an email to Mr. Kris Kleinschmidt (kris.kleinschmidt@noaa.gov) or contact him at (503) 820-2412 for technical assistance.

Council address: Pacific Fishery Management Council, 7700 NE Ambassador Place, Suite 101, Portland, OR 97220-1384.

FOR FURTHER INFORMATION CONTACT: Kerry Griffin, Staff Officer, Pacific Council; telephone: (503) 820-2409; email: Kerry.griffin@noaa.gov.

SUPPLEMENTARY INFORMATION: The Pacific Council's ad hoc Marine Planning Committee (MPC) will consider information related to the United States Bureau of Ocean Energy Management's (BOEM) planning process for future offshore wind energy leases off the U.S. West Coast. Specifically, the MPC will consider a BOEM request for comment related to two areas off California: The Morro Bay 399 area and the Humboldt Bay Wind Energy Area. The MPC may also consider pending wind energy Call Areas off the Oregon Coast, other wind energy activities, or other related marine planning matters such as offshore aquaculture. The MPC may develop comments and recommendations to the Pacific Council for consideration at its September 2021 meeting. The MPC may also address administrative matters such as electing officers.

Although non-emergency issues not contained in the meeting agenda may be discussed, those issues may not be the subject of formal action during this meeting. Action will be restricted to those issues specifically listed in this document and any issues arising after publication of this document that require emergency action under section 305(c) of the Magnuson-Stevens Fishery Conservation and Management Act, provided the public has been notified of the intent to take final action to address the emergency.

Special Accommodations

Requests for sign language interpretation or other auxiliary aids should be directed to Mr. Kris Kleinschmidt (kris.kleinschmidt@noaa.gov; (503) 820-2412) at least 10 days prior to the meeting date.

Authority: 16 U.S.C. 1801 et seq.

Dated: August 9, 2021.
Tracey L. Thompson,
Acting Deputy Director, Office of Sustainable Fisheries, National Marine Fisheries Service.

[FR Doc. 2021-17275 Filed 8-11-21; 8:45 am]

BILLING CODE 3510-22-P